DEPARTMENT OF DEFENSE

Department of the Army

[Docket ID: USA-2008-0027]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0190-13 DAMO

System name:

Security/Access Badges (May 10, 2002, 67 FR 31790).

Changes:

Change System Identifier to “A0190-13 OPMG”.

* * * * *

Storage:

Delete entry and replace with “Paper records in file folders and electronic storage media.”

* * * * *

A0190-13 OPMG

System name:

Security/Access Badges.

System location:

Headquarters, Department of the Army staff, field operating agencies, states' adjutant general offices, and Army installations, activities, offices world-wide that issue security badges authorized by Army Regulation 190-13, The Army Physical Security Program. Official mailing addresses are published as an appendix to the Army's compilation of systems of records notices.

Categories of individuals covered by the system:

Individuals issued a security/access badge, authorized members of the Uniformed Services, civilian Department of Defense and contract employees and visitors entering Department of Defense properties, stations, forts, depots, arsenals, plants (both contractor and Government operated), hospitals, terminals, and other mission facilities and restricted areas, primarily used for military purposes.

Categories of records in the system:

Individual's application for security/access badge on appropriate Department of Defense and Army forms; individual's photograph, finger print record, special credentials, allied papers, registers, logs reflecting sequential numbering of security/access badges may also contain other relevant documentation.

Authority for maintenance of the system:

10 U.S.C. 3013, Secretary of the Army; Army Regulation 190-13, The Army Physical Security Program and E.O. 9397 (SSN).

Purpose(s):

To provide a record of security/access badges issued; to restrict entry to installations and activities; to ensure positive identification of personnel authorized access to restricted areas; to maintain accountability for issuance and disposition of security/access badges.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ also apply to this system of records.

Policies and practices for storing, retrieving, accessing, retaining, and disposing of records:

Storage:

Paper records in file folders and electronic storage media.

Retrievability:

By individual's name, Social Security Number, and/or security/access badge number.

Safeguards:

Data maintained in secure buildings accessed only by personnel authorized access. Computerized information protected by alarms and established access and control procedures.

Retention and disposal:

Security identification applications are maintained for 3 months after turn-in of badge or card then destroyed.

System manager(s) and address:

Commander, U.S. Total Army Personnel Command, 200 Stovall Street, Alexandria, VA 22332-0400.

Notification procedure:

Individuals seeking to determine whether information about themselves is contained in this system should address written inquiries to the issuing office where the individual obtained the identification card or to the system manager.

Individual should provide the full name, number of security/access badge, current address, phone number and signature.

Record access procedures:

Individuals seeking access to records about themselves contained in this record system should address written inquiries to the issuing officer at the appropriate installation.

Individual should provide the full name, number of security/access badge, current address, phone number and signature.

Contesting record procedures:

The Army rules for accessing records, and for contesting contents and appealing initial agency determinations are contained in Army Regulation 340-21; 32 CFR part 505; or may be obtained from the system manager.

Record source categories:

From the individual, Army records and reports.

Exemptions claimed for the system:

None.

[FR Doc. E8-17022 Filed 7-24-08; 8:45 am]

BILLING CODE 5001-06-P